DEPARTMENT OF HEALTH AND HUMAN SERVICES

Announcement of Requirements and Registration for the “2012 ASPR Challenge Titled Now Trending: #Health in My Community”

AGENCY: Office of the Assistant Secretary for Preparedness and Response, HHS.

ACTION: Notice.

SUMMARY: The Assistant Secretary for Preparedness and Response (ASPR) is announcing the launch of the 2012 ASPR Challenge titled Now Trending: #Health in My Community. This challenge aims to address the gaps in health surveillance at the State, Local, Tribal, and Territorial level to improve situational awareness and response to health threats. Specifically, this contest will challenge entrants to create a Web-based application that takes open source Twitter data for a specified geographic area, counts the frequency of common illness related terms, and creates a top five list of trending illnesses for the previous twenty-four hour period. The top five list would be automatically delivered daily to public health practitioners at health departments via a Web-based widget. This information can then be used by the health departments in multiple ways such as building a baseline of trend data, engaging the public on trending health topics, serving as an indicator of potential health issues emerging in the population, or cross-referencing other data sources. The resulting product from this challenge will cut down on the manpower intensive task of sifting through Twitter postings for meaningful health data.

DATES: Important dates for this Challenge are:

Submission Period Begins: 03-16-2012.

Submission Period Ends: 06-01-2012.

Judging Process for Finalists Begins: 06-18-2012.

Judging Process for Finalists Ends: 07-31-2012.

Winners notified: August 2012.

Winners announced: September 2012.

Winners Present Tools at Fusion Forum: November 2012.

FOR FURTHER INFORMATION CONTACT: Diana Boss, MPH, Public Health Analyst, Fusion Cell, OPEO, ASPR, HHS. Phone: 202-260-5189.

Award Approval Official: RADM Nicole Lurie, MD, MSPH., Office of the Assistant Secretary for Preparedness and Response.

SUPPLEMENTARY INFORMATION:

Subject of Challenge Competition

Entrants are asked to develop a Web-based application that can ingest open source Twitter data for a specified geographic area, count the frequency of common illness related terms based on a provided common disease term taxonomy, and produce a top five list of trending illnesses for the previous twenty-four hour period. The daily top five list would be automatically delivered daily to public health practitioners at health departments via a Web-based widget. The resulting information will then be available to health departments to use in a variety of ways including building a baseline of trend data, engaging the public on trending health topics, serving as an indicator of potential health issues emerging in the population, or cross-referencing other data sources.

Eligibility Rules for Participating in the Competition

To be eligible to win a prize under this challenge, an individual or entity—

(1) Shall have registered to participate in the competition under the rules promulgated by ASPR;

(2) Shall have complied with all the requirements under this section;

(3) In the case of a private entity, shall be incorporated in and maintain a primary place of business in the United States, and in the case of an individual, whether participating singly or in a group, shall be a citizen or permanent resident of the United States;

(4) May not be a Federal entity or Federal employee acting within the scope of their employment;

(5) Shall not be an HHS employee working on their applications or submissions during assigned work hours;

(6) Shall not be an employee of the Office of the Assistant Secretary for Preparedness and Response;

(7) Federal grantees may not use Federal funds to develop COMPETES Act challenge applications unless consistent with the purpose of their grant award;

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

This Challenge is open to any Contestant, defined as (1) an individual or team of U.S. citizens or permanent residents of the United States who are 18 years of age and over, or (2) an entity incorporated in and maintaining a primary place of business in the United States. Foreign citizens can participate as employees of an entity that is properly incorporated in the U.S. and maintains a primary place of business in the U.S. Contestants may submit more than one entry, e.g., if they have developed more than one tool.

Any individual or team that supplies false information, enters the challenge by fraudulent means, or is otherwise determined to be in violation of the eligibility criteria or terms of the challenge shall be ineligible for any prize and shall be required to forfeit and prize obtained based on such information or means.

Eligibility for a prize award is contingent upon fulfilling all requirements set forth herein. ASPR will not select as a Winner an individual or entity that is currently on the Excluded Parties List (https://www.epls.gov/).

By participating in this competition, participants agree to assume any and all risks and waive claims against the Federal Government and its related entities, except in the case of willful misconduct, for any injury, death, damage, or loss of property, revenue, or profits, whether direct, indirect, or consequential, arising from participation in this prize contest, whether the injury, death, damage, or loss arises through negligence or otherwise.

By participating in this competition, participants agree to indemnify the Federal Government against third party claims for damage arising from or related to competition activities.

Based on the subject matter of the contest, the type of work that it will possibly require, as well as an analysis of the likelihood of any claims for death, bodily injury, or property damage, or loss potentially resulting from contest participation, Contestants are not required to obtain liability insurance or demonstrate financial responsibility in order to participate in this contest.

Upon submission, each Contestant warrants that he or she is the sole author and owner of the submission; that the submission is wholly original with the Contestant (or is an improved version of an existing tool that the Contestant has sufficient rights to use); and that it does not infringe any copyright or any other rights of any third party of which Contestant is aware. Each Contestant also warrants that their submission is free of malware. Each Contestant also warrants that he or she has complied with the Twitter API Guidelines and Terms listed on the following Web site: https://dev.twitter.com/docs.

By participating in this contest, each Contestant grants to ASPR an irrevocable, paid-up, royalty-free nonexclusive worldwide license to post, link to, share, and display publicly the submission on the Web, for the purpose of the Challenge, during the duration of the Challenge, and for a period of two years following announcement of the winners. Contestants with winning submissions also grant to ASPR an irrevocable, paid-up, royalty-free nonexclusive worldwide license to use winning submissions and distribute them to the public to enhance situational awareness and response to health threats for a period of two years following announcement of the winners. All Contestants will retain all other intellectual property rights in their submissions. For example, during the two-year period referenced above, contestants retain the right to utilize and modify their submissions as desired and to provide licenses (paid or un-paid) to other entities. Thereafter, the nonexclusive license will expire, and contestants could grant an exclusive license if they so desired.

Registration Process for Participants

Interested persons that meet the eligibility criteria above should register at www.nowtrendingchallenge.com. Registration is free and can be completed anytime during the Submission Period, 03-16-2012 to 06-01-2012.

Amount of the Prize

At the culmination of the submission period, all submitted entries will be reviewed for eligibility criteria. Those entries that are found to be eligible will be reviewed by a judging panel for determination of one grand prize submission. The grand prize submission will be awarded $21,000.00. If a team wins the prize, the prize money will be divided evenly among all team members. The winning entry will also receive $1,000 to apply towards travel to Washington, DC for the announcement of the winner.

Payment of Prize

Prizes awarded under this competition will be paid by electronic funds transfer and may be subject to Federal income taxes. Any Federal, state, and, local taxes, and all similar fees and assessments, are the sole responsibility of the prize recipients. HHS will comply with the Internal Revenue Service withholding and reporting requirements, where applicable.

Basis Upon Which Winner Will Be Selected

All submissions that satisfy eligibility criteria will be judged by an expert panel composed of ASPR staff. The expert panel may also include and/or consult with Federal employees from other HHS components and Federal agencies, State and Local public health representatives, and/or external members of the health information technology community in compliance with the requirements of the America COMPETES Act. Judges may be named after commencement of the challenge. The judging panel will make selections based upon the following criteria:

1. Accessibility: Each entry will be rated on its ease of accessibility. Preference will be given to applications that are easily accessible to a wide range of users, including those with disabilities, on a variety of platforms.

2. Innovation: Each tool must meet the basic requirements for entry in the competition. Beyond the basics, each entry will be rated to the degree of new thinking it brings to applications targeting health surveillance. Innovations that help refine the tool's output or add additional knowledge beyond the top five trends are encouraged. These innovations may include but are not limited to: Adaptability to categories beyond diseases, reduction of noise to improve data quality, refinement of geolocation ability, etc.

3. Usability: Each entry will be rated on its ease of usability and interactive capabilities. Entries will be judged based on the user interface for selecting the location of interest for reporting and on the user ability to interact with output data.

4. Potential for impact on ability to gain/maintain health situational awareness: Each entry will be rated on the strength of its potential to help health authorities increase their knowledge of emerging health topics in their population of interest.

Submissions should include a title; a description of the submission in the form of a document (5 page maximum) or a slide presentation (10 slide maximum); a Web address for the technology; instructions on how to operate the tool; and system requirements required to run the tool. Pictures and video are optional but helpful.

Additional Information

1. General—Contestants must provide continuous access to their submission, a detailed description of the tool, instructions on how to install and operate the tool, and system requirements required to run the tool.

2. Acceptable platforms—The submission must be designed for the Web, a personal computer, a mobile handheld device, console, or any platform broadly accessible on the open Internet.

3. Acceptable Twitter Sources—All participants must use openly available Twitter information via one of the following Twitter API's: REST API or Streaming API

3. Accessibility—The tool must, to the extent practicable, be accessible to a wide range of users, including users with disabilities. It should also aim to meet objectives for Federal compliance guidelines for information technology as addressed by Section 508 of the Rehabilitation Act of 1973: http://www.section508/gov.

4. Deadlines and Modifications—All submissions must be available for evaluation and judging by 11:59 p.m., EDT, on 06-01-2012.

5. Intellectual Property—The Submission must not infringe any copyright or any other rights of any third party.

6. No logo or endorsement—The tool must not use any HHS or ASPR logo or official seal in the submission and must not claim HHS or ASPR endorsement. The award of a prize in this Challenge does not constitute an endorsement of a specific product by HHS, ASPR, or the Federal Government.

7. Functionality/Accuracy—A Submission may be disqualified if the tool fails to function as expressed in the description provided by the user or if the tool provides inaccurate or incomplete information.

8. Security—Submissions must be free of malware. The Contestant agrees that HHS may conduct testing on the tool to determine whether malware or other security threats may be present. HHS may disqualify the tool if, in HHS's judgment, the tool may damage the Government's or others' equipment or operating environment.

9. Debarment and Suspension Screening. By submitting an entry, Contestants consent to debarment and compliance screening.

Compliance With Rules and Contacting Challenge Winners

Finalists and the Challenge Winners must comply with all terms and conditions of these Official Rules and winning is contingent upon fulfilling all requirements contained herein. Awards may be subject to Federal income taxes, and the Department of Health and Human Services will comply with the Internal Revenue Service withholding and reporting requirements, where applicable. Winners will be notified by email, telephone, or mail after the date of the judging.

Privacy

If contestants choose to provide ASPR with personal information by registering or filling out the submission form through the challenge Web site, that information is used to respond to contestants in matters regarding their submission; announcements of entrants, finalists, and winners of the Challenge; and in relation to promotion of the Challenge. Information is not collected for commercial marketing.

Winners are permitted to cite that they won this contest.

General Conditions

ASPR reserves the right to cancel, suspend, and/or modify the Competition, or any part of it, for any reason, at ASPR's sole discretion.

Participation in this Challenge constitutes a contestant's full and unconditional agreement to abide by the Challenge's Official Rules found at www.Challenge.gov.

Authority: 15 U.S.C. 3719.

Dated: February 7, 2012.
Nicole Lurie,
Assistant Secretary for Preparedness and Response.

[FR Doc. 2012-6608 Filed 3-19-12; 8:45 am]

BILLING CODE 4150-37-P